DEPARTMENT OF THE INTERIOR

Fish and Wildlife Service

Proposed Information Collection; OMB Control Number 1018-0135; Electronic Duck Stamp Pilot Program

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: You must submit comments on or before August 13, 2007.

ADDRESSES: Send your comments on the IC to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this IC, contact Hope Grey by mail, fax, or e-mail (see ADDRESSES) or by telephone at (703) 358-2482.

SUPPLEMENTARY INFORMATION:

I. Abstract

The Electronic Duck Stamp Act of 2005 (Act) (Pub.L. 109-266), passed in August 2006, requires that the Secretary of the Interior conduct a 3-year pilot program under which up to 15 States authorized by the Secretary may issue electronic Federal Duck Stamps. Eligible applicants are State fish and wildlife agencies that have an automated licensing system authorized under State law. There are currently 40 States that offer Internet, point of sale, or telephonic sales for their hunting and fishing licenses.

Under the Act, a State may not participate in the pilot program unless it submits an application and the Secretary approves it. OMB has granted emergency approval for the application for this program (FWS Form 3-2341) and assigned OMB Control No. 1018-0135, which expires October 31, 2007. To participate in the pilot program, eligible State fish and wildlife agencies must have submitted an application by June 8, 2007. The application process will lead to the selection of up to 15 participants for this pilot program.

The Act requires reports from States that participate in the pilot program We plan to ask OMB to approve the following reporting requirements for a 3-year term:

(1) Pilot Fulfillment Report. Each participating State must collect the following information and submit it to the fulfillment contractor on a weekly basis. We will use this information to issue an actual stamp to each purchaser.

(a) First and last name and complete mailing address for each individual who purchases an electronic stamp from the State.

(b) Face value amount of each electronic stamp sold by the State.

(c) Amount of the Federal portion of any fee required by the agreement for each stamp sold.

(2) At the end of the pilot program, the Act requires that we submit a report to Congress. We will evaluate the program to determine if it has provided a cost effective and convenient means for issuing Federal Duck Stamps. We will ask each State to provide information on whether or not the program:

(a) Increased the availability of the stamps.

(b) Assisted States in meeting customer service objectives.

(c) Maintained actual stamps as an effective and viable conservation tool.

(d) Maintained adequate retail availability of the actual stamp.

II. Data

OMB Control Number: 1018-0135.

Title: Electronic Duck Stamp Pilot Program.

Service Form Number(s): None.

Type of Request: Revision of currently approved collection.

Affected Public: State fish and wildlife agencies.

Respondent's Obligation: Required to obtain or retain a benefit.

Frequency of Collection: Weekly for fulfillment reports; one time for evaluation report.

Activity | Number of annual respondents | Number of annual responses | Completion time per response | Annual burden hours
Pilot Fulfillment Reports | 15 | 780 | 1 hour | 1,200
Pilot Evaluation Report | 15 | 15 | 8 hours | 120
Totals | 30 | 795 |  | 1,320

III. Request for Comments

We invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. We will include and/or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: April 30, 2007
Hope Grey,
Information Collection Clearance Officer, Fish and Wildlife Service.

FR Doc. E7-11286 Filed 6-11-07; 8:45 pm

Billing Code 4310-55-S